DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein.

DATES: Comments must be received on or before January 5, 2026.

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: (1) Motor vehicle, (2) Rail freight, (3) Cargo vessel, (4) Cargo aircraft only, (5) Passenger-carrying aircraft.

Copies of the applications are available for inspection in the Records Center, East Building, PHH-13, 1200 New Jersey Avenue Southeast, Washington DC.

This notice of receipt of applications for special permit is published in accordance with part 107 of the Federal hazardous materials transportation law (49 U.S.C. 5117(b); 49 CFR 1.53(b)).

Issued in Washington, DC, on December 1, 2025.
Donald P. Burger,
Chief, General Approvals and Permits Branch.

Special Permits Data
Application No. | Applicant | Regulation(s) affected | Nature of the special permits thereof
22110-N | Blue Origin, LLC | 173.301(f)(1), 173.302(a)(1) | To authorize the transportation in commerce of filled non-DOT specification cylinders that are not fitted with a pressure relief device and are incorporated into the New Glenn launch vehicle 1st Stage modules. (mode 1)
22113-N | Peak Energy Technologies, Inc | 173.185(e) | To authorize the transportation of prototype sodium-ion battery cells that have not yet completed UN 38.3 testing. (modes 1, 2, 3, 4)
22114-N | Busek Co., Inc | 173.301(f)(1), 178.35(e) | To authorize the transportation of non-DOT specification fully wrapped carbon-fiber reinforced aluminum lined composite cylinders which are incorporated into a propulsion system within a spacecraft or components of a spacecraft. (modes 1, 2, 3, 4, 5)
22118-N | James Supplies, LLC | 173.315(a)(2) | To authorize the manufacture, marking, sale and use of DOT MC 338 cargo tanks for use in the transportation of carbon dioxide, refrigerated liquid. (modes 1, 3)
22123-N | Lucid USA, Inc | 172.101(j), 173.185(a)(1), 173.220(d) | To authorize the transportation in commerce of prototype and low production lithium cells and batteries that exceed 35 kg net weight aboard cargo-only aircraft. (mode 4)
22124-N | Sig Sauer Inc | 172.101(i)(3), 172.300(a), 173.62(c) | To authorize the transportation in commerce of Division 1.4S in non-specification packagings without applying the required markings. (mode 1)
22127-N | Advance Auto Parts, Inc | 172.101(k)(10), 176.83(b) | To authorize the transportation in commerce of UN 2794 batteries, wet, filled with acid, within the same cargo transport unit as R1234yf refrigerant classified as UN3161 liquefied gas, flammable, n.o.s. (mode 3)
22131-N | Composite Technical Systems S.p.A | 178.71(l)(1) | To extend the service life of CTS Type 4 composite cylinders to 30 years. (modes 1, 2, 3, 4)
22132-N | Dragonfly Energy Corp | 172.101(j) | To authorize the transportation in commerce of lithium-ion batteries that exceed 35 kg net weight aboard cargo-only aircraft. (mode 4)
22133-N | General Motors Company | 171.2(k), 172.301(c) | To authorize the shipment of empty large packagings used for the transportation of tested lithium-ion cells as fully regulated without determining that a hazardous material is present. (modes 1, 2)
22134-N | Planet Labs PBC | 173.301(f), 173.302a(a)(1) | To authorize the transportation in commerce of a non-DOT specification cylinder containing certain Division 2.2 compressed gases and incorporated into a spacecraft or components of a spacecraft. (modes 1, 4)
22135-N | National Refrigerants, Inc | 172.203(a), 172.301(c) | To authorize the transportation in commerce of non-specification inner receptacles authorized under two special permits where the outer package is marked with a separate special permit number. (modes 1, 4)
22136-N | Aztlan Mora/WMA Motorsports | 173.202, 173.242 | To authorize the transportation in commerce of UN1992, flammable liquids, toxic, n.o.s. in non-UN specification 5-gallon steel drums. (mode 1)
22137-N | Daicel Safety Systems Europe Sp.z o.o | 173.301(a)(1), 173.302a, 178.65(b), 178.65(c), 178.65(e)(1), 178.65(f), 178.65(g), 178.65(i) | To authorize the manufacture of a non-specification gas cylinder airbag inflator. (modes 1, 2, 3, 4)
22139-N | Rocket Lab USA, Inc | 49 CFR Part 178 | To authorize transportation in commerce of a non-DOT specification pressure vessel for use in a space vehicle. (mode 1)
22140-N | Novonix Battery Technology Solutions | 172.101(j), 173.185(e) | To authorize transportation in commerce of prototype lithium-ion and sodium-ion cells by cargo-only aircraft. (mode 4)
22141-N | Pacific Environmental Corp | 173.24(f), 173.24a(a)(3) | To authorize transportation in commerce of 1H2 open head drums containing Nickel-Iron batteries with an installed vent for emitted hydrogen gas. (modes 1, 3)
22142-N | ZOLL Services LLC | 172.102(c)(2) | To authorize the transportation in commerce of lithium-ion batteries packed with equipment that exceeds the 30% state of charge aboard cargo-only aircraft. (mode 4)
22143-N | Zhejiang TopFlying Metal Packaging Co., Ltd | 173.304(d) | To authorize the manufacture, mark, sale and use of a non-DOT specification non-refillable inner container conforming in part with the regulations applicable to a DOT specification 2Q container for the transportation in commerce of the hazardous material listed in the special permit. (mode 1, 2, 3, 4)
22144-N | Trinity Industries, Inc | 179.201-6(b) | To authorize the manufacture, mark, sale and use of DOT111A100W5 tank car tanks equipped with a non-metallic, glass fiber reinforced polymer primary closure for manways to be used for the transportation of hydrochloric acid. (mode 2)
22145-N | Impulse Labs, Inc | 172.101(j) | To authorize transportation in commerce of lithium-ion batteries in a battery pack that exceeds 35 kg aboard cargo-only aircraft. (mode 4)
22146-N | Bold Valuable Technology Spain S.L | 172.101(j) | To authorize the transportation in commerce of prototype lithium-ion batteries that exceed 35 kg aboard cargo-only aircraft. (mode 4)
22147-N | Jiangsu Huanqiu Can Manufacturing Co., Ltd | 173.304(d) | To authorize the manufacture, mark, sale and use of a non-DOT specification non-refillable inner container, similar to DOT specification 2Q inner containers, for the transportation in commerce of the hazardous materials listed in the special permit. (modes 1, 2, 3,)

[FR Doc. 2025-22046 Filed 12-4-25; 8:45 am]

BILLING CODE P